SECURITIES AND EXCHANGE COMMISSION

Sunshine Act Meeting

Federal Register Citation of Previous Announcement: [67 FR 57255, September 9, 2002].

Status: Closed Meeting.

Place: 450 Fifth Street, NW., Washington, DC.

Date and Time of Previously Announced Meeting: Tuesday, September 10, 2002, at 10 a.m.

Change in the Meeting: Additional Meeting.

The Securities and Exchange Commission will hold an additional meeting during the week of September 9, 2002: An additional Closed Meeting will be held on Thursday, September 12, 2002, at 4 p.m.

Commissioner Goldschmid, as duty officer, determined that Commission business required the above change and that no earlier notice thereof was possible.

The subject matter of the Closed Meeting to be held on Thursday, September 12, 2002, will be: Amicus consideration.

At times, changes in Commission priorities require alterations in the scheduling of meeting items. For further information and to ascertain what, if any, matters have been added, deleted or postponed, please contact: The Office of the Secretary at (202) 942-7070.

Dated: September 10, 2002.
Margaret H. McFarland,
Deputy Secretary.

[FR Doc. 02-23437 Filed 9-11-02; 9:36 am]

BILLING CODE 8010-01-P